DEPARTMENT OF COMMERCE

Foreign-Trade Zones Board

[S-103-2016]

Foreign-Trade Zone 24—Pittston, Pennsylvania; Application for Subzone; Michaels Stores Procurement Company, Inc.; Hazleton, Pennsylvania

An application has been submitted to the Foreign-Trade Zones Board (the Board) by the Eastern Distribution Center, Inc., grantee of FTZ 24, requesting subzone status for the facility of Michaels Stores Procurement Company, Inc., located in Hazleton, Pennsylvania. The application was submitted pursuant to the provisions of the Foreign-Trade Zones Act, as amended (19 U.S.C. 81a-81u), and the regulations of the Board (15 CFR part 400). It was formally docketed on July 26, 2016.

The proposed subzone (77.8 acres) is located at 60 Green Mountain Road, Hazleton. No authorization for production activity has been requested at this time. The proposed subzone would be subject to the existing activation limit of FTZ 24.

In accordance with the Board's regulations, Elizabeth Whiteman of the FTZ Staff is designated examiner to review the application and make recommendations to the Executive Secretary.

Public comment is invited from interested parties. Submissions shall be addressed to the Board's Executive Secretary at the address below. The closing period for their receipt is September 7, 2016. Rebuttal comments in response to material submitted during the foregoing period may be submitted during the subsequent 15-day period to September 22, 2016.

A copy of the application will be available for public inspection at the Office of the Executive Secretary, Foreign-Trade Zones Board, Room 21013, U.S. Department of Commerce, 1401 Constitution Avenue NW., Washington, DC 20230-0002, and in the “Reading Room” section of the Board's Web site, which is accessible via www.trade.gov/ftz.

For further information, contact Elizabeth Whiteman at Elizabeth.Whiteman@trade.gov or (202) 482-0473.

Dated: July 26, 2016.
Andrew McGilvray,
Executive Secretary.

[FR Doc. 2016-18024 Filed 7-28-16; 8:45 am]

BILLING CODE 3510-DS-P